DEPARTMENT OF VETERANS AFFAIRS

Privacy Act of 1974; System of Records

AGENCY: Department of Veterans Affairs (VA).

ACTION: Notice of New System of Records—Enterprising Veterans’ Information Center—VA (124VA00VE).

SUMMARY: The Privacy Act of 1974, 5 U.S.C. 522a, requires that all agencies publish in the Federal Register a notice of the existence and character of their systems of records. Notice is hereby given that the Department of Veterans Affairs (VA) is adding a new system of records entitled “Enterprising Veterans' Information Center—VA” (124VA00VE).

DATES: Comments on the establishment of this new system of records must be received no later than August 20, 2003. If no public comment is received, the new system will become effective August 20, 2003.

ADDRESSES: Written comments concerning the proposed new system of records may be mailed or hand-delivered to the Director, Regulations Management (00REG1), Department of Veterans Affairs, 810 Vermont Avenue, NW., Room 1068, Washington, DC 20420. Comments may also be faxed to (202) 273-9026, or e-mailed to OGCRegulations@mail.va.gov. All relevant material received before August 20, 2003 will be considered. Comments will be available for public inspection at the above address in the Office of Regulations Management, Room 1063B, between the hours of 8 a.m. and 4:30 p.m., Monday through Friday (except holidays). Please call for an appointment.

FOR FURTHER INFORMATION CONTACT: Ms. Gail Wegner (00VE), Department of Veterans Affairs, 810 Vermont Avenue, NW., Washington, DC 20420. The telephone number is (202) 254-0233.

SUPPLEMENTARY INFORMATION: Public Law 106-50 (Section 604) requires, in pertinent part:

“(b) Identification of Small Business Concerns Owned by Eligible Veterans. Each fiscal year, the Secretary of Veterans Affairs shall, in consultation with the Assistant Secretary of Labor for Veterans' Employment and Training and the Administrator of the Small Business Administration, identify small business concerns owned and controlled by veterans in the United States. The Secretary shall inform each small business concern identified under this paragraph that information on Federal procurement is available from the Administrator.”

This new system of records will be used to maintain and access an automated database containing recordings of phone calls coming into the Center for Veterans Enterprise (Center or CVE) and the routing of those calls to the appropriate individuals for action.

The information in this system will be maintained in electronic form. The information in these records will be used within the office for the purpose of supporting the office mission and responding to inquiries coming into the office.

A “Report of Intention to Publish a Federal Register Notice of a New System of Records” and an advance copy of the new system notice have been provided to the Chairmen of the House Committee on Government Reform and Oversight and the Senate Committee on Governmental Affairs, and the Director, Office of Management and Budget (OMB), as required by provisions of the Privacy Act, and guidelines issued by OMB (61 FR 6428) (1996).

Approved: July 9, 2003.
Anthony J. Principi,
Secretary of Veterans Affairs.

124VA00VE

System name:

Enterprising Veterans' Information Center (EVIC)-VA.

System location:

All system records are maintained at the Center for Veterans Enterprise office in VA Headquarters, Washington, DC.

Categories of individuals covered by the system:

The system shall record the names and numbers of individuals calling the CVE for advice and assistance, as well as any voice messages.

Categories of records in the system:

The system of records will provide integrated customer service for the Center's telephone and operational business communication needs to include, but not limited to, automated switchboard referral to CVE resource partners and automated electronic mail responses and referrals. It shall record the names and numbers of individuals calling the CVE for advice and assistance.

Authority for maintenance of the system:

Pub. L. 106-50, as amended.

Routine uses of records maintained in the system, including categories of users and the purposes of such uses:

The records maintained by the system will be used within the Center for Veterans Enterprise to manage communications from veterans and other individuals seeking assistance from the Center in establishing new businesses or enhancing existing businesses or seeking information on business opportunities for veterans.

Compatibility of the Routine Uses:

The Privacy Act permits disclosure of information about individuals without their consent for a routine use when the information will be used for a purpose that is compatible with the purpose for which the information is collected. In all of the routine use disclosures described above, either the recipient of the information will use the information in connection with a matter relating to one of VA's programs; to provide a benefit to VA; or because disclosure is required by law.

Policies and practices for storing, retrieving, accessing, retaining and disposing of records in the system:

Storage:

The EVIC will operate on equipment located at VA's Center for Veterans Enterprise located in Washington, DC. Data backups will reside on appropriate media according to normal system back-up plans recommended by the manufacturer. The system will be managed by the Center for Veterans Enterprise in VA Headquarters, Washington, DC.

Retrievability:

Records may be retrieved by calling telephone number, date, name, and other data given by the caller that is stored in the database.

Safeguards:

The system and all files will be physically located in a locked room within CVE offices. Access to the building is controlled by access card during non-duty hours and by guard service during duty hours. Access to CVE offices is via a receptionist during duty hours and by physical key entry during non-duty hours.

Access to the system is via user-id/password restricted to authorized administrators only. Overall policy, within VA, regarding issuance of user-ids and passwords is formulated in VA by the Office of Information and Technology, Washington, DC.

Retention and disposal:

Records will be maintained and disposed of in accordance with the records disposal authority approved by the Archivist of the United States, the National Archives and Records Administration, and published in Agency Records Control Schedules.

System manager(s) and address:

Deputy Director, Center for Veterans Enterprise (00VE), 810 Vermont Avenue, NW., Washington, DC 20420.

Records access procedures:

Individuals seeking access to records about themselves contained in this system of records may access the records via the Internet, or submit a written request to the system manager.

Contesting record procedures:

An individual who wishes to contest records maintained under his or her name or other personal identifier may write or call the system manager. VA's rules for accessing records and contesting the contents and appealing initial agency determinations are published in regulations set forth in the Code of Federal Regulations. See 38 CFR 1.577, 1.578.

Record source categories:

Records contained in EVIC will be created from information provided by persons voluntarily contacting the Center for Veterans Enterprise and by caller-id information supplied via the local telephone carrier.

[FR Doc. 03-18492 Filed 7-18-03; 8:45 am]

BILLING CODE 8320-01-P